DEPARTMENT OF TRANSPORTATION

Federal Highway Administration

Notice of Final Federal Agency Actions on Proposed Highway in Utah

AGENCY: Federal Highway Administration (FHWA), DOT; Army Corps of Engineers, DOD.

ACTION: Notice of Limitation on Claims for Judicial Review of Actions by FHWA, United States Army Corps of Engineers (USACE), DOD, and Other Federal Agencies.

SUMMARY: This notice announces actions taken by the FHWA, USACE, and other Federal agencies that are final within the meaning of 23 U.S.C. 139(l)(1). The actions relate to a proposed highway project, Legacy Parkway Project from Interstate 215 (I-215) in Salt Lake City north to U.S. Highway 89 (US-89) in Farmington, in the Counties of Salt Lake and Davis, State of Utah. Those actions grant licenses, permits, and approvals for this project.

DATES: By this notice, the FHWA is advising the public of final agency actions subject to 23 U.S.C. 139(l)(1). A claim seeking judicial review of the Federal agency actions on the highway project will be barred unless the claim is filed on or before August 1, 2006. If the Federal law that authorizes judicial review of a claim provides a time period of less than 180 days for filing such claim, then that shorter period still applies.

FOR FURTHER INFORMATION CONTACT: Gregory S. Punske, P.E., Environmental Program Manager, Federal Highway Administration, 2520 West 4700 South, Suite 9A, Salt Lake City, Utah 84118, Telephone: (801) 963-0182. The FHWA Utah Division Office's normal business hours are 7 a.m. to 4:30 p.m. (mountain time). You may also contact Mr. Shawn Zinszer, Chief Intermountain Regulatory Office, U.S. Army Corps of Engineers, 533 West 2600 South, Suite 150, Bountiful, Utah 84010 Telephone: (801) 295-8380 or, Mr. John Thomas, Director, Legacy Parkway Project, Utah Department of Transportation, 4001 South 700 East, Suite 450, Salt Lake City, UT 84107, Telephone, (801) 924-2070.

SUPPLEMENTARY INFORMATION: Notice is hereby given that the FHWA and other Federal agencies have taken final agency actions by issuing licenses, permits, and approvals for the following highway project in the State of Utah: The Legacy Parkway Project, a four-lane, limited-access, divided highway extending 14 miles from Interstate 215 (I-215) in Salt Lake City north to I-15 and U.S. Highway 89 (US-89) in Farmington; FHWA Reference Number: SP-0067(1)0. The primary purpose of the Legacy Parkway project is to help meet existing and projected travel demand through 2020 in the North Corridor by providing additional north-south transportation capacity. The North Corridor, located in Salt Lake and Davis Counties, Utah, is an area constrained by the Great Sale Lake to the west and the Wasatch Mountains to the east, and bounded by 400 South in Salt Lake City to the south and 200 North in Kaysville to the north. The actions by the Federal agencies, and the laws under which such actions were taken, are described in the Final Supplemental Environmental Impact Statement (FSEIS) for the project, approved on October 19, 2005, in the FWHA Record of Decision (ROD) issued on January 10, 2006, in the USACE of Engineers ROD issued on January 18, 2006, and in the Department of Army Permit Number 2003350493 effective on January 20, 2006, and in other documents in the FHWA and USACE administrative record. The FSEIS, RODs, and other documents in the FHWA and USACE administrative record are available upon written request from the FHWA or the Utah Department of Transportation at the addresses provided above. The FSEIS, the FHWA ROD, the USACE ROD and the Department of the Army Permit can be viewed and downloaded from the Utah Department of Transportation project Web site at: http://udot.utah.gov/index.php/m=c/tid=181]. The FSEIS can also be viewed at public libraries in the project area. Copies of the FHWA ROD and the USACE permit are available upon written request from the FHWA or the Utah Department of Transportation at the addresses shown above.

This notices applies to all Federal agency decisions as of the issuance date of this notice and all laws under which such actions were taken, including but not limited to:

1. General: National Environmental Policy Act (NEPA) [42 USC 4321-4351]; Federal-Aid Highway Act [23 U.S.C. 109].

2. Wetlands and Water Resources: Clean Water Act, 33 U.S.C. 1251-1377 (Section 404, Section 401, Section 3190; Land and Water Conservation Fund (LWCF), 16 U.S.C. 4601-4604; TEA-21 Wetlands Mitigation, 23 U.S.C. 103(b)(6)(m), 133(b)(11).

3. Air: Clean Air Act, 42 U.S.C. 7401-7671(q).

4. Land: Section 4(f) of the Department of Transportation Act of 1966 [49 U.S.C. 303].

5. Wildlife: Endangered Species Act [16 U.S.C. 1531-1544 and Section 1536], Migratory Bird Treaty Act [16 U.S.C. 703-712].

6. Historic and Cultural Resources: Section 106 of the National Historic Preservation Act of 1966, as amended [16 U.S.C. 470(f) et seq.]; Archaeological Resources Protection Act of 1977 [16 U.S.C. 470(aa)-11]; Archaeological and Historic Preservation Act [16 U.S.C. 469-469(c)]; Native American Grave Protection and Repatriation Act (NAGPRA) [25 U.S.C. 3002-3013].

7. Social and Economic: Civil Rights Act of 1964 [42 U.S.C. 2000(d)-2000(d)(1)]; American Indian Religious Freedom Act [42 U.S.C. 1996]; Farmland Protection Policy Act (FPPA) [7 U.S.C. 4201-4209].

8. Hazardous Materials: Comprehensive Environmental Response, Compensation, and Liability Act (CERCLA), 42 U.S.C. 9601-9675; Superfund Amendments and Reauthorization Act of 1986 (SARA); Resource Conservation and Recovery Act (RCRA), 42 U.S.C. 6901-6992(k).

9. Use of and Access to Interstate Highways; Federal-Aid Highway Act (23 U.S.C. 111).

10. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: January 26, 2006.
Walter Waidelich,
Division Administrator, Salt Lake City, Utah.

[FR Doc. 06-956 Filed 2-1-06; 8:45 am]

BILLING CODE 4910-22-M